DEPARTMENT OF ENERGY

Federal Energy Regulatory Commission

[Project No. 2030-186]

Portland General Company and The Confederated Tribes of Warm Springs; Notice of Filing of Petition for Declaratory Order

April 2, 2009.

Take notice that on March 6, 2009, Anita Jackson, Charles Jackson, Deborah Jackson, and Mark Jackson (Jackson family or petitioners) filed a petition for declaratory order requesting the Commission to issue a order finding that the licensee for the Pelton Round Butte Project No. 2030 is required to pay reasonable charges pursuant to section 10(e) of the Federal Power Act to the Jackson family for use of their land in the operation of the Round Butte Hydroelectric Project. The petition states that the named members of the Jackson family are members of the Confederated Tribe of Warm Springs and own an undivided one-third beneficial interest in allotments 527, 528, and 532 within the Warm Springs Reservation. The petition notes that the Confederated Tribes of Warm Springs owns the remaining undivided two-thirds beneficial interest in the allotments, and the Bureau of Indian Affairs is the trustee for the allotments.

The deadline for filing (1) comments in response to this filing, or (2) motions to intervene to become a party (pursuant to 18 CFR 385.214) is 30 days from the issuance of this notice.

All filings should be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings see 18 CFR 385.2001 and 385.2003 or go to the Commission's Web site located at http://www.ferc.gov/help/filing-guide/file-hardcopy-elec.asp.

More information about this project can be viewed or printed on the “eLibrary” link of Commission's Web site at http://www.ferc.gov/docs-filing/elibrary.asp. Enter the docket number (P-2030) in the docket number field to access the document. For assistance, call toll-free 1-866-208-3372.

Kimberly D. Bose,
Secretary.

[FR Doc. E9-8051 Filed 4-8-09; 8:45 am]

BILLING CODE 6717-01-P